NATIONAL SCIENCE FOUNDATION

Advisory Committee for Education and Human Resources; Notice of Meeting

In accordance with the Federal Advisory Committee Act (Pub. L. 92-463, as amended), the National Science Foundation (NSF) announces the following meeting:

Name and Committee Code: Advisory Committee for Education and Human Resources (#1119) (Virtual Meeting).

Date and Time: Wednesday, November 3, 2021; 12:00 p.m.-5:00 p.m. and Thursday, November 4, 2021; 12:00 p.m.-5:00 p.m.

Place: Sponsored by the National Science Foundation, 2415 Eisenhower Avenue, Alexandria, VA 22314 | Virtual.

To attend the virtual meeting, all visitors must register at least 48 hours prior to the meeting.at: https://nsf.zoomgov.com/webinar/register/WN_e5ZlM-BHS9SZlVSJAKKJ3w.

The final agenda for the meeting will be posted to: https://www.nsf.gov/ehr/advisory.jsp.

Type of Meeting: Open.

Contact Person: Keaven M. Stevenson, National Science Foundation, 2415 Eisenhower Avenue, Room C11001, Alexandria, VA 22314; (703) 292-8600/kstevens@nsf.gov.

Summary of Minutes: Minutes and meeting materials will be available on the EHR Advisory Committee website at http://www.nsf.gov/ehr/advisory.jsp or can be obtained from Dr. Bonnie A. Green, National Science Foundation, 2415 Eisenhower Avenue, Room C11000, Alexandria, VA 22314; (703) 292-8600; ehr_ac@nsf.gov.

Purpose of Meeting: To provide advice with respect to the Foundation's science, technology, engineering, and mathematics (STEM) education and human resources programming.

Agenda

Wednesday, November 3, 2021, 12:00 p.m.-5:00 p.m. (Eastern Standard Time)

• Welcoming Remarks from the AC Chair and the EHR Acting Assistant Director

• Theme 1: Innovation Through Partnership

○ Session 1: Understanding the New Directorate for Technology, Innovation, and Partnerships (TIP)

○ Session 2: Developing and Leveraging Partnerships in STEM Higher Education

○ Session 3: Building a New Infrastructure for Partnerships with EHR & TIP

Thursday, November 4, 2021, 12:00 p.m.-5:00 p.m. (Eastern Standard Time)

• Theme 2: Innovation Through Broadening Participation in STEM

○ Session 4: Utilizing a Comprehensive Approach to Broaden Participation of Groups Underrepresented in STEM

○ Session 5: Advancing the Use of Translational Science for the Purpose of Broadening Participation Through K-12 STEM Education

○ Session 6: Encouraging Authentic and Useable Assessment for Broadening Participation

• Discussion with NSF Director and Chief Operating Officer and Closing Remarks

Dated: September 29, 2021.
Crystal Robinson,
Committee Management Officer.

[FR Doc. 2021-21608 Filed 10-4-21; 8:45 am]

BILLING CODE 7555-01-P